DEPARTMENT OF DEFENSE

Department of the Army

Draft Environmental Impact Statement for Army Training Land Retention at Kahuku Training Area, Kawailoa-Poamoho Training Area, and Makua Military Reservation, Island of O`ahu, Hawai`i

AGENCY: Department of the Army, DoD.

ACTION: Notice of availability.

SUMMARY: The Department of the Army (Army) announces the availability of a Draft Environmental Impact Statement (Draft EIS) regarding its proposed action: to retain up to approximately 6,322 acres of land the Army currently leases from the State of Hawai`i. These lands are located on the island of O`ahu and comprise approximately 1,150 acres at Kahuku Training Area (KTA), approximately 4,390 acres at Kawailoa-Poamoho Training Area (Poamoho), and approximately 782 acres at Makua Military Reservation (MMR). The purpose of the proposed action is to retain these three areas for military training beyond the end of the current leases. The need for the proposed action is to maintain facilities for training by the Army and other Department of Defense organizations, as such training facilities are not available elsewhere in Hawai`i. In accordance with the National Environmental Policy Act (NEPA) and the Hawai`i Environmental Policy Act (HEPA), the Draft EIS analyzes the potential direct, indirect, and cumulative impacts of a range of reasonable alternatives that meet the purpose of and need for the proposed action. The Draft EIS also analyzes the potential impacts of the No-Action Alternative, under which Army use of these lands would cease when the leases expire in 2029. Because the proposed retention involves state-owned lands, the EIS is a joint NEPA-HEPA document. The two public review processes run concurrently.

DATES: The Army invites public comments on the Draft EIS during the 60-day public comment period. To be considered in the Final EIS, all comments must be postmarked or received by 11:59 p.m. Hawai'i Standard Time on August 7, 2024. Public meetings will be held at Wai`anae District Park Multi-Purpose Room on July 9, 2024, Kahuku High and Intermediate School on July 10, 2024, and at Leilehua High School on July 11, 2024, to provide information on the Draft EIS and to enhance the opportunity for public comment. Information on how to participate in the Draft EIS public meetings and on how to submit comments is available on the EIS website: https://home.army.mil/hawaii/index.php/OahuEIS/project-home.

ADDRESSES: Written comments should be: submitted through the EIS website (https://home.army.mil/hawaii/index.php/OahuEIS/project-home); emailed to atlr-oahu-eis@g70.design; mailed to O`ahu ATLR EIS Comments, P.O. Box 3444, Honolulu, HI 96801-3444; or provided during public meetings. Comments must be postmarked or received by August 7, 2024.

FOR FURTHER INFORMATION CONTACT: Mr. Michael Donnelly, U.S. Army Garrison-Hawai`i Public Affairs Office, by telephone at (808) 787-2140 or by email at usarmy.hawaii.nepa@army.mil.

SUPPLEMENTARY INFORMATION: U.S. Army Garrison-Hawai`i is home to the 25th Infantry Division (25th ID) and other commands, the mission of which is to deploy and conduct decisive actions in support of unified land operations. 25th ID is based at Schofield Barracks on the island of O`ahu. 25th ID trains on a rotational basis at various training areas, including KTA, Poamoho, and MMR.

Located in northeast O`ahu, KTA has been the site of military training since the mid-1950s. Current training activities on state-owned land at KTA include high-density, company-level helicopter training in a tactical environment, large-scale ground maneuver training, and air support training.

Located in the Ko`olau Mountains in north-central O`ahu, Poamoho has been the site of military training since 1964. It provides airspace with ravines and deep vegetation for realistic helicopter training.

Located in northwest O`ahu, MMR has been a military training site for nearly 100 years. Tactical training at MMR began in 1941 after the attack on Pearl Harbor and military training continues to this day. Current activities on state-owned land at MMR include maneuver training, the use of restricted airspace for unmanned aerial vehicle training, as well as wildland fire suppression and security activities.

The Draft EIS evaluates the potential impacts of a range of alternatives:

For KTA—(1) Full Retention (of approximately 1,150 acres); (2) Modified Retention (of approximately 450 acres);

For Poamoho—(1) Full Retention (of approximately 4,390 acres); (2) Modified Retention (of approximately 3,170 acres);

For MMR—(1) Full Retention (of approximately 782 acres); (2) Modified Retention (of approximately 572 acres); (3) Minimum Retention and Access (of approximately 162 acres and 2.4 miles of select range and firebreak roads).

Under the No-Action Alternative for each of these training areas, the leases would lapse in 2029 and the Army would lose access to these training areas. The Army has identified the preferred alternative as Alternative 2 at each of the training areas.

The Draft EIS analyzes the impacts of both a new lease of the areas and full federal ownership (i.e., fee simple title). The Draft EIS analyzes land use, biological resources, cultural resources/practices, hazardous substances and hazardous wastes, air quality, greenhouse gases, noise, geology, topography, soils, water resources, socioeconomics, environmental justice, transportation, traffic, human health, and safety. The Draft EIS indicates that significant adverse impacts on land use (land tenure) and environmental justice would occur with a lease or fee simple title at: KTA and Poamoho under Alternatives 1 and 2; and MMR under Alternatives 1, 2, and 3. Significant adverse impacts on cultural practices would occur with a lease or fee simple title at MMR under Alternatives 1, 2, and 3. Some of the significant impacts for land use (land tenure) could be reduced to less than significant. The modified or minimum retention alternatives would have significant beneficial impacts on land use (land tenure) for land not retained at KTA, Poamoho, and MMR. Impacts of the action alternatives on other resources are less than significant. The No-Action Alternative would have a significant beneficial impact on land use (land tenure) and environmental justice at all sites, and on cultural practices at MMR. The No-Action Alternative would have less than significant impacts on all other resources at the three sites.

To mitigate adverse impacts on land use (land tenure), the Army would consider adding non-barbed-wire fencing and signage to minimize accidental or intentional trespass from adjacent non-U.S. Government-controlled land. This applies to Alternative 2 for KTA and to Alternatives 2 and 3 for MMR. As mitigation for impacts to cultural practices and environmental justice at MMR, the Army would, for alternatives 1, 2, and 3: review and update its public engagement efforts; work with cultural practitioners and Native Hawaiian Organizations to update and/or develop a mutually beneficial cultural access plan; and promote long-term stewardship of the āina (i.e., the land of Hawai`i) with regard to military use of state-owned land. The Army distributed the Draft EIS to Native Hawaiian Organizations, to federal, state, and local agencies/officials, and to other stakeholders. The Draft EIS and related information are available on the EIS website at: https://home.army.mil/hawaii/index.php/OahuEIS/project-home. The public may also review the Draft EIS and select materials at the following libraries:

1. Hawai`i State Library, Hawai`i Documents Center, 478 S King Street, Honolulu, HI 96813

2. Kahuku Public and School Library, 56-490 Kamehameha Highway, Kahuku, HI 96731

3. Wahiawā Public Library, 820 California Ave., Wahiawā, HI 96786

4. Wai'anae Public Library, 85-625 Farrington Highway, Wai'anae, HI 96792

Native Hawaiian Organizations, federal, state, and local agencies/officials, and other interested entities/individuals are encouraged to comment on the Draft EIS during the 60-day public comment period. All comments postmarked or received by August 7, 2024 will be considered in the development of the Final EIS.

James W. Satterwhite, Jr.,
U.S. Army Federal Register Liaison Officer.

[FR Doc. 2024-12573 Filed 6-6-24; 8:45 am]

BILLING CODE 3711-02-P